DEPARTMENT OF DEFENSE

Department of the Navy

Notice of Reopening of Comment Period for the Draft Environmental Impact Statement for the Silver Strand Training Complex

AGENCY: Department of the Navy, DoD.

ACTION: Notice.

SUMMARY: A notice of availability was published by the U.S. Environmental Protection Agency in the Federal Register (75 FR 3730) on January 22, 2010, for the Silver Strand Training Complex (SSTC) Draft Environmental Impact Statement (EIS). The public review period ended on March 8, 2010. This notice announces the reopening of the public comment period until March 30, 2010.

DATES: The comment period for the notice published January 22, 2010, at 75 FR 3730 is reopened. Comments are due by March 30, 2010.

ADDRESSES: Comments may be submitted in writing to Naval Facilities Engineering Command Southwest, Attention: Mr. Kent Randall, SSTC EIS Project Manager, 1220 Pacific Highway, Building 1, 5th Floor, San Diego, CA 92132. In addition, comments may be submitted online at http://www.silverstrandtrainingcomplexeis.com.

SUPPLEMENTARY INFORMATION: The public comment period on the SSTC Draft EIS will be reopened until March 30, 2010. All written comments must be submitted online or postmarked by March 30, 2010, to ensure they become part of the official record. All comments will be addressed in the Final EIS.

Copies of the Draft EIS are available for public review at the following libraries: Coronado Public Library, 640 Orange Avenue, Coronado, CA; and Imperial Beach Branch Library, 810 Imperial Beach Boulevard, Imperial Beach, CA. The SSTC Draft EIS/OEIS is also available for electronic public viewing online.

FOR FURTHER INFORMATION CONTACT: Mr. Kent Randall, SSTC EIS Project Manager, Naval Facilities Engineering Command Southwest, 1220 Pacific Highway, Building 1, 5th Floor, San Diego, CA 92132; or http://www.silverstrandtrainingcomplexeis.com.

Dated: March 11, 2010.
A.M. Vallandingam,
Lieutenant Commander, Office of the Judge Advocate General, U.S. Navy, Federal Register Liaison Officer.

[FR Doc. 2010-5824 Filed 3-16-10; 8:45 am]

BILLING CODE 3810-FF-P